DEPARTMENT OF COMMERCE

National Oceanic and Atmospheric Administration

[RTID 0048-XE284]

North Pacific Fishery Management Council; Public Meetings

AGENCY: National Marine Fisheries Service (NMFS), National Oceanic and Atmospheric Administration (NOAA), Commerce.

ACTION: Notice of hybrid conference.

SUMMARY: The North Pacific Fishery Management Council (Council) and its advisory committees will meet September 30, 2024 through October 8, 2024.

DATES: The Council's Scientific and Statistical Committee (SSC) will begin at 8 a.m. on Monday, September 30, 2024, and continue through Wednesday, October 2, 2024. The Council's Advisory Panel (AP) will begin at 8 a.m. on Tuesday, October 1, 2024, and continue through Friday, October 4, 2024. The Council will begin at 8 a.m. on Thursday, October 3, 2024, and continue through Tuesday, October 8, 2024. The Legislative Committee will meet Wednesday, October 2, 2024, from 1 p.m. to 5 p.m. at the North Pacific Fishery Management Council's Conference Room; 1007 W 3rd Ave., Suite 400, Anchorage, AK 99501-2252. All times listed are Alaska Time.

ADDRESSES: The meetings will be a hybrid conference. The in-person component of the meeting will be held at the Egan Center, 555 W 5th Ave., Anchorage, AK 99501, or join the meeting online through the links at https://www.npfmc.org/current-or-next-council-meeting/.

Council address: North Pacific Fishery Management Council, 1007 W 3rd Ave., Suite 400, Anchorage, AK 99501-2252; telephone: (907) 271-2809. Instructions for attending the meeting via web conference are given under Connection Information, below.

FOR FURTHER INFORMATION CONTACT: Diana Evans, Council staff; email: diana.evans@noaa.gov; telephone: (907) 271-2809. For technical support, please contact our Council administrative staff, email: npfmc.admin@noaa.gov.

SUPPLEMENTARY INFORMATION:

Agenda

Monday, September 30, 2024 Through Wednesday, October 2, 2024

The SSC agenda will include the following issues:

1. Administrative Issues

2. Bering Sea Aleutian Islands (BSAI) Crab Specifications—review Stock Assessment and Fishery Evaluation (SAFE) report; adopt Acceptable Biological Catch (ABC)/Over Fishing Limits (OFLs) for Bristol Bay red king crab (BBRKC), Tanner crab, snow crab, St. Matthew Blue King Crab (SMBKC); Ecosystem Status Report; BSAI Crab Plan Team Report

3. Groundfish harvest specifications: (a) BSAI Groundfish—Proposed specifications, Joint and BSAI Plan Team reports; (b) Gulf of Alaska (GOA) Groundfish—Proposed specifications, GOA Plan Team report; (c) Ecological and Socioeconomic Profile (ESP) updates for sablefish

4. Crew data collection—Initial review

5. Climate funding: review: (a) Climate Scenario Workshop Report, (b) Climate science and harvest specifications adjustments discussion paper/SCS8 report

6. IFQ Program Review Report—review (T)

7. AFSC Report (T)

The agenda is subject to change, and the latest version will be posted at https://meetings.npfmc.org/Meeting/Details/3054 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Wednesday, October 2, 2024

Legislative Committee Agenda:

The Legislative Committee agenda will include approval of a terms of reference, a review of recently introduced federal legislation regarding fisheries management, and an evaluation of potential impacts of legislation on the Council's ability to perform the functions specified in its grant, fulfill its responsibilities under the MSA, or affect the Council's ability to conserve and manage marine resources and resource users. The agenda is subject to change, and the latest version will be posted at https://meetings.npfmc.org/Meeting/Details/3052 prior to the meeting, along with meeting materials.

Tuesday, October 1, 2024 Through Friday, October 4, 2024

The Advisory Panel agenda will include the following issues:

1. Administrative Issues

2. Crew data collection—Initial review

3. BSAI Crab Specifications—review SAFE report; adopt ABC/OFLs for BBRKC, Tanner crab, snow crab, SMBKC; Ecosystem Status Report; BSAI Crab Plan Team Report

4. Pelagic trawl gear definition—Initial review

5. Observer 2025 Annual Deployment Plan—Review; Partial Coverage Fishery Monitoring Advisory Committee (PCFMAC) report

6. Observer availability discussion paper—review, Fishery Monitoring Advisory Committee (FMAC) report

7. Groundfish harvest specifications: (a) BSAI Groundfish—Proposed specifications, Joint and BSAI Plan Team reports; (b) GOA Groundfish—Proposed specifications, GOA Plan Team report; (c) Discard Mortality Rate (DMR) Working Group report on marine mammal interactions; (d) GOA rockfish spatial management—Discussion

8. Climate funding: review (a) Climate Scenario Workshop Report, (b) Climate science and harvest specifications adjustments discussion paper/SCS8 report BSAI Crab Program Review—review workplan

9. Individual Fishing Quota (IFQ) Program Review Report—review, IFQ Committee report

10. Staff Tasking

Thursday, October 3, 2024 Through Tuesday, October 8, 2024

The Council agenda will include the following issues. The Council may take appropriate action on any of the issues identified.

1. Swear in new members, election of officers

2. B Reports (Executive Director including Legislative Committee report, NMFS Management (including consultation on an exempted fishing permit for adjusting the pelagic trawl footrope), NOAA General Counsel (GC), Alaska Fishery Science Center (AFSC), Alaska Department of Fish and Game (ADF&G), United States Coast Guard (USCG), United States Fish and Wildlife Service (USFWS), Advisory Panel, SSC report)

3. BSAI Crab Specifications—review SAFE report; adopt ABC/OFLs for BBRKC, Tanner crab, snow crab, SMBKC; Ecosystem Status Report; BSAI Crab Plan Team Report

4. Recreational Quota Entity implementation—approve proposed modifications to fee collection process

5. Groundfish harvest specifications: (a) BSAI Groundfish—Proposed specifications, Joint and BSAI Plan Team reports; (b) GOA Groundfish—Proposed specifications, GOA Plan Team report; (c) DMR Working Group report on marine mammal interactions; (d) GOA rockfish spatial management—Discussion paper

6. Observer 2025 Annual Deployment Plan—Review; PCFMAC report

7. Observer availability discussion paper—review, FMAC report

8. C5 Crew data collection—Initial review

9. Pelagic trawl gear definition—Initial review

10. Climate funding: review (a) Climate Scenario Workshop Report, (b) Climate science and harvest specifications adjustments discussion paper/SCS8 report

11. IFQ Program Review Report—review, IFQ Committee report

12. Staff Tasking (including programmatic/chum bycatch engagement discussion)

Connection Information

You can attend the meeting online using a computer, tablet, or smart phone; or by phone only. Connection information will be posted online at: https://www.npfmc.org/upcoming-council-meetings. For technical support, please contact our administrative staff, email: npfmc.admin@noaa.gov.

If you are attending the meeting in-person, please refer to the COVID avoidance protocols on our website, https://www.npfmc.org/current-or-next-council-meeting/.

Public Comment

Public comment letters will be accepted and should be submitted electronically through the links at https://www.npfmc.org/current-or-next-council-meeting/. The Council strongly encourages written public comment for this meeting, to avoid any potential for technical difficulties to compromise oral testimony. The written comment period is open from September 9, 2024 to September 27, 2024, and closes at 12 p.m. Alaska Time on Friday, September 27, 2024.

Although other non-emergency issues not on the agenda may come before this group for discussion, those issues may not be the subject of formal action during these meetings. Actions will be restricted to those issues specifically listed in this notice and any issues arising after publication of this notice that require emergency action under Section 305(c) of the Magnuson-Stevens Fishery Conservation and Management Act, provided the public has been notified of the Council's intent to take final action to address the emergency.

Authority: 16 U.S.C. 1801 et seq.

Dated: September 10, 2024.
Rey Israel Marquez,
Acting Deputy Director, Office of Sustainable Fisheries, National Marine Fisheries Service.

[FR Doc. 2024-20823 Filed 9-12-24; 8:45 am]

BILLING CODE 3510-22-P